DEPARTMENT OF ENERGY

Federal Energy Regulatory Commission

Combined Notice of Filings #1

Take notice that the Commission received the following electric corporate filings:

Docket Numbers: EC15-213-000.

Applicants: Public Service Company of New Mexico, PNMR Development and Management Corporation.

Description: Supplement to September 25, 2015 Application for Authorization Pursuant to Section 203 of the Federal Power Act for Acquisition of Jurisdictional Facilities, et. al of Public Service Company of New Mexico, et al.

Filed Date: 11/12/15.

Accession Number: 20151112-5388.

Comments Due: 5 p.m. ET 11/24/15.

Docket Numbers: EC16-15-000.

Applicants: Michigan Power Limited Partnership.

Description: Supplement to October 19, 2015 Application for Authorization Pursuant to Section 203 of the Federal Power Act of Michigan Power Limited Partnership.

Filed Date: 11/12/15.

Accession Number: 20151112-5377.

Comments Due: 5 p.m. ET 11/27/15.

Docket Numbers: EC16-33-000.

Applicants: Coram California Development, L.P.

Description: Application of Coram California Development, L.P. for Authorization under Section 203 of Federal Power Act and Request for Expedited Consideration and Confidential Treatment.

Filed Date: 11/12/15.

Accession Number: 20151112-5378.

Comments Due: 5 p.m. ET 12/3/15.

Take notice that the Commission received the following electric rate filings:

Docket Numbers: ER10-2130-012.

Applicants: Forward Energy LLC.

Description: Supplement to June 30, 2015 Triennial Report for Central Region of Forward Energy LLC.

Filed Date: 11/13/15.

Accession Number: 20151113-5082.

Comments Due: 5 p.m. ET 12/4/15.

Docket Numbers: ER10-2136-010.

Applicants: Invenergy Cannon Falls LLC.

Description: Supplement to June 30, 2015 Triennial Report for Central Region of Invenergy Cannon Falls LLC.

Filed Date: 11/13/15.

Accession Number: 20151113-5083.

Comments Due: 5 p.m. ET 12/4/15.

Docket Numbers: ER11-4044-013.

Applicants: Gratiot County Wind LLC.

Description: Supplement to June 30, 2015 Triennial Report for Central Region of Gratiot County Wind LLC.

Filed Date: 11/13/15.

Accession Number: 20151113-5080.

Comments Due: 5 p.m. ET 12/4/15.

Docket Numbers: ER11-4046-012.

Applicants: Gratiot County Wind II LLC.

Description: Supplement to June 30, 2015 Triennial Report for Central Region of Gratiot County Wind II LLC.

Filed Date: 11/13/15.

Accession Number: 20151113-5079.

Comments Due: 5 p.m. ET 12/4/15.

Docket Numbers: ER12-164-011.

Applicants: Bishop Hill Energy III LLC.

Description: Supplement to June 30, 2015 Triennial Report for Central Region of Bishop Hill Energy III LLC.

Filed Date: 11/13/15.

Accession Number: 20151113-5077.

Comments Due: 5 p.m. ET 12/4/15.

Docket Numbers: ER12-645-013.

Applicants: California Ridge Wind Energy LLC.

Description: Supplement to June 30, 2015 Triennial Report for Central Region of California Ridge Wind Hill Energy LLC.

Filed Date: 11/13/15.

Accession Number: 20151113-5078.

Comments Due: 5 p.m. ET 12/4/15.

Docket Numbers: ER15-2742-001.

Applicants: Panda Patriot LLC.

Description: Tariff Amendment: Amended Market-Based Rate Tariff, FERC Electric Tariff, Volume No. 1 to be effective 11/13/2015.

Filed Date: 11/12/15.

Accession Number: 20151112-5286.

Comments Due: 5 p.m. ET 11/23/15.

Docket Numbers: ER16-89-001.

Applicants: Jether Energy Research, LTD.

Description: Tariff Amendment: Amended MBR Application to be effective 12/14/2015.

Filed Date: 11/13/15.

Accession Number: 20151113-5081.

Comments Due: 5 p.m. ET 12/4/15.

Docket Numbers: ER16-315-000.

Applicants: PJM Interconnection, L.L.C., West Penn Power Company, Duquesne Light Company.

Description: § 205(d) Rate Filing: West Penn & Duquesne submit Interconnection Agreement No. 2532 to be effective 1/11/2016.

Filed Date: 11/12/15.

Accession Number: 20151112-5285.

Comments Due: 5 p.m. ET 12/3/15.

Docket Numbers: ER16-316-000.

Applicants: PJM Interconnection, L.L.C.

Description: § 205(d) Rate Filing: Ministerial Clean-Up due to Overlapping Filings RE Capacity Perfomance to be effective 4/1/2015.

Filed Date: 11/12/15.

Accession Number: 20151112-5296.

Comments Due: 5 p.m. ET 12/3/15.

Docket Numbers: ER16-317-000.

Applicants: Arizona Public Service Company.

Description: § 205(d) Rate Filing: Service Agreement No. 348—Non-conforming A-1 with Navopache to be effective 1/1/2016.

Filed Date: 11/12/15.

Accession Number: 20151112-5297.

Comments Due: 5 p.m. ET 12/3/15.

Docket Numbers: ER16-318-000.

Applicants: AES Huntington Beach, L.L.C., California Independent System Operator Corporation.

Description: § 205(d) Rate Filing: Rate Change to be effective 1/1/2016.

Filed Date: 11/12/15.

Accession Number: 20151112-5372.

Comments Due: 5 p.m. ET 12/3/15.

Take notice that the Commission received the following PURPA 210(m)(3) filings:

Docket Numbers: QM15-3-000.

Applicants: Arkansas Electric Cooperative Corp.

Description: Response to July 14, 2015 Deficiency Letter [Question No. 4] of Arkansas Electric Cooperative Corporation.

Filed Date: 11/12/15.

Accession Number: 20151112-5375.

Comments Due: 5 p.m. ET 12/10/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 13, 2015.
Nathaniel J. Davis, Sr.,
Deputy Secretary.

[FR Doc. 2015-29510 Filed 11-18-15; 8:45 am]

BILLING CODE 6717-01-P